DEPARTMENT OF DEFENSE

Department of the Navy

[Docket ID: USN-2016-HQ-0003]

Proposed Collection; Comment Request

AGENCY: Department of the Navy, DoD.

ACTION: Notice.

SUMMARY: In compliance with the Paperwork Reduction Act of 1995, the Department of the Navy announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 25, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to: Commander, Navy Installation Command, Housing Division, 716 Sicard Street SE., Suite 1000, Washington DC 20374-5140, ATTN: HOMES.mil System Manager, or call the HOMES.mil System Manager, at 202-433-3580.

SUPPLEMENTARY INFORMATION: Title; Associated Form; and OMB Number: Enterprise Military Housing; OMB Control Number 0703-XXXX.

Needs and Uses: The information collection requirement supports relocation assistance to military members and their families. Data collected include information on community rental housing costs/availability and home finding services. https://www.Homes.mil/HEAT allows Service Members to remotely initiate contact with the housing office and request services and housing information. Rental property listing information may also be used to support the annual DoD survey used to determine Basic Allowance for Housing (BAH) and Overseas Housing Allowance (OHA). Rental listing costs and amenities provide valuable information about the affordability of housing near military installations

Affected Public: Individual or households; Business or other for-profit.

Annual Burden Hours: 11,533.

Number of Respondents: 6,920.

Responses per Respondent: 5.

Annual Responses: 34,600.

Average Burden per Response: 20 minutes.

Frequency: On occasion.

Summary of Information Collection

Community property owners and managers establish an account to publish property listings for Service Members to review. The property owner and manager information allows military housing offices to validate property owners and managers intentions to list properties on the public Web site for renting to service members. Property owner and manager names and contact information, along with information about their rental properties is displayed on the Web site, allowing services members to make contact if interested in their listings.

Information collected on the Web site is also used to create metrics on the use and success of the Web site, i.e., quantitative metrics on rental listings, listing costs and amenities, and metrics on the number of views by page. Listing information may also be used to support the annual DoD survey for the Basic Allowance for Housing (BAH) and the Overseas Housing Allowance (OHA).

Dated: February 17, 2016.
Aaron Siegel,
Alternate OSD Federal Register Liaison Officer, Department of Defense.

[FR Doc. 2016-03632 Filed 2-22-16; 8:45 am]

BILLING CODE 5001-06-P